DEPARTMENT OF TRANSPORTATION

Maritime Administration

Secretarial Extension of Authority; Marine War Risk Insurance Under Title XII of the Merchant Marine Act, 1936

On December 12, 2001, President George W. Bush approved the provision of vessel war risk insurance by memorandum for the Secretary of State and the Secretary of Transportation. The approval was for the provision by the Secretary of Transportation of insurance or reinsurance of vessels (including cargoes and crew) entering the Middle East region against loss or damage by war risks in the manner and to the extent approved in Title XII of the Act, 46 U.S.C App.1281, et seq.

The President delegated to the Secretary of Transportation the authority vested in him by section 1202 of the Act, to approve the provision of insurance or reinsurance after the expiration of 6 months and to bring this approval to the attention of all operators and to arrange for its publication in the Federal Register. On August 23, 2002 the Secretary of Transportation approved the extension of the authority to provide such insurance for another 6-month period, to December 12, 2002.

On February 9, 2003 the Secretary of Transportation approved an extension of the authority to provide such insurance for an additional one-year period, through December 12, 2003.

FOR FURTHER INFORMATION CONTACT: Joe Strassburg, Chief, Division of Marine Insurance, Maritime Administration, 400 Seventh St., SW., Washington, DC 20590, Phone Number (202) 366-4156

By Order of the Maritime Administrator
Dated: March 5, 2003.
Joel C. Richard,
Secretary.

[FR Doc. 03-5655 Filed 3-10-03; 8:45 am]

BILLING CODE 4910-81-P